ENVIRONMENTAL PROTECTION AGENCY

[FRL 9933-33-OARM]

National Advisory Council for Environmental Policy and Technology

AGENCY: Environmental Protection Agency (EPA).

ACTION: Notice of advisory committee meeting.

SUMMARY: Under the Federal Advisory Committee Act, Public Law 92463, the Environmental Protection Agency (EPA) gives notice of a public meeting of the National Advisory Council for Environmental Policy and Technology (NACEPT). NACEPT provides advice to the EPA Administrator on a broad range of environmental policy, technology, and management issues. NACEPT members represent academia, industry, non-governmental organizations, and local, state, and tribal governments. The purpose of this meeting is for NACEPT to begin developing recommendations to the Administrator regarding actions that EPA can take in response to the agency's charge on citizen science. A copy of the meeting agenda will be posted at http://www2.epa.gov/faca/nacept.

DATES: NACEPT will hold a two-day public meeting on September 28, 2015, from 8:30 a.m. to 5:30 p.m. (EST) and September 29, 2015, from 8:30 a.m. to 4:00 p.m. (EST).

ADDRESSES: The meeting will be held at the EPA Headquarters, William Jefferson Clinton Federal Building South, Room 2138 1200 Pennsylvania Avenue NW., Washington, DC 20460.

FOR FURTHER INFORMATION CONTACT: Eugene Green, Designated Federal Officer, green.eugene@epa.gov, (202) 564-2432, U.S. EPA, Office of Diversity, Advisory Committee Management, and Outreach (MC1601M), 1200 Pennsylvania Avenue NW., Washington, DC 20460.

SUPPLEMENTARY INFORMATION: Requests to make oral comments or to provide written comments to NACEPT should be sent to Eugene Green at green.eugene@epa.gov by September 21, 2015. The meeting is open to the public, with limited seating available on a first-come, first-served basis. Members of the public wishing to attend should contact Eugene Green via email or by calling (202) 564-2432 no later than September 21, 2015.

Meeting Access: Information regarding accessibility and/or accommodations for individuals with disabilities, should be directed to Eugene Green at the email address or phone number listed above. To ensure adequate time for processing, please make requests for accommodations at least 10 days prior to the meeting.

Dated: August 24, 2015.
Eugene Green,
Designated Federal Officer.

[FR Doc. 2015-21486 Filed 8-28-15; 8:45 am]

BILLING CODE 6560-50-P